DEPARTMENT OF EDUCATION

National Assessment Governing Board; Meeting

AGENCY: U.S. Department of Education, National Assessment Governing Board.

ACTION: Notice of Open and Closed Meeting Sessions.

SUMMARY: This notice sets forth the schedule and proposed agenda of the upcoming meeting of the National Assessment Governing Board (Board) and also describes the specific functions of the Board. Notice of this meeting is required under Section 10(a)(2) of the Federal Advisory Committee Act. This notice is issued to provide members of the general public with an opportunity to attend and/or provide comments. Individuals who will need special accommodations in order to attend the meeting (e.g.: interpreting services, assistive listening devices, materials in alternative format) should notify Munira Mwalimu at (202) 357-6938 or at Munira.Mwalimu@ed.gov no later than November 21, 2011. We will attempt to meet requests after this date, but cannot guarantee availability of the requested accommodation. The meeting site is accessible to individuals with disabilities.

DATES: December 1-3, 2011.

Times:

December 1: Schedule for Ad Hoc, Assessment Development, and Executive Committee.

Meetings

Ad Hoc Committee: Open Session: 8:30 a.m.-11:15 a.m.

Assessment Development Committee: Closed Session: 11:30 a.m.-2:30 p.m.; Open Session: 2:30 p.m.-4 p.m.

Executive Committee: Open Session: 4:30 p.m.-5:30 p.m.; Closed Session: 5:30 p.m.-6 p.m.

December 2: Schedule for Full Board and Committee Meetings

Full Board: Open Session: 8:15 a.m.-10 a.m.; Closed Session: 12:30 p.m.-2 p.m.; Open Session: 2:15 p.m.-4:45 p.m.

Committee Meetings

Assessment Development Committee (ADC): Open Session: 10:15 a.m.-11:30 a.m.; Closed Session: 11:30 a.m.-12:30 p.m.

Committee on Standards, Design and Methodology (COSDAM): Open Session: 10:15 a.m.-12 p.m.; Closed Session: 12 p.m.-12:30 p.m.

Reporting and Dissemination Committee (R&D): Open Session: 10:15 a.m.-12:30 p.m.

December 3: Schedule for Nominations Committee and Board Meeting

Nominations Committee: Closed Session: 7:15 a.m.-8:15 a.m.

Full Board: Open Session: 8:30 a.m.-12 p.m.

Location: St. Regis Hotel, 923 16th and K Streets NW., Washington, DC 20002.

FOR FURTHER INFORMATION CONTACT: Munira Mwalimu, Operations Officer, National Assessment Governing Board, 800 North Capitol Street NW., Suite 825, Washington, DC 20002-4233, Telephone: (202) 357-6938.

SUPPLEMENTARY INFORMATION: The National Assessment Governing Board (Board) is established under section 412 of the National Education Statistics Act of 1994, as amended.

The Board is established to formulate policy guidelines for the National Assessment of Educational Progress (NAEP). The Board's responsibilities include the following: Selecting subject areas to be assessed, developing assessment frameworks and specifications, developing appropriate student achievement levels for each grade and subject tested, developing standards and procedures for interstate and national comparisons, developing guidelines for reporting and disseminating results, and releasing initial NAEP results to the public.

On December 1, 2011, a series of committee meetings will occur. From 8:30 a.m. to 11:15 a.m., the Ad Hoc Committee on NAEP Parent Engagement will meet in open session. From 11:30 a.m. to 2:30 p.m. the Assessment Development Committee will meet in closed session to review the secure test task outlines for the 2014 NAEP Technology and Engineering Literacy (TEL) assessment scheduled for 2014 for grade 8. During the closed session, ADC members will be provided specific test materials for review which are not yet releasable to the general public. Premature disclosure of these secure test items and materials would compromise the integrity and substantially impede implementation of the NAEP assessments, and is therefore protected by exemption 9(B) of section 552b(c) of Title 5 of the United States Code. This same committee will meet in an open session from 2:30 p.m. to 4 p.m.

On December 1, 2011 from 4:30 p.m. to 5:30 p.m., the Executive Committee will meet in open session and thereafter in closed session from 5:30 p.m. to 6 p.m. During the closed session, the Executive Committee will receive a briefing from the National Center for Education Statistics (NCES) on options for NAEP contracts covering assessment years beyond 2012 and address budget implications for the NAEP assessment schedule. The discussion of contract options and costs will address the congressionally mandated goals and Board policies on NAEP assessments. This portion of the meeting will be conducted in closed session because public discussion of this information would disclose independent government cost estimates and contracting options, adversely impacting the confidentiality of the contracting process. Public disclosure of information discussed would reduce future contract competition and significantly impede implementation of the NAEP contracts, and is therefore protected by exemption 9(B) of section 552b(c) of Title 5 of the United States Code.

On December 2, 2011 the full Board will meet in open session from 8:15 a.m. to 10 a.m. The Board will review and approve the meeting agenda and meeting minutes from the August 2011 Board meeting, followed by the Chairman's remarks. The Oath of Office will then be administered to newly appointed Board members by the U.S. Secretary of Education. This session will be followed by a Panel Discussion on using NAEP to make a difference.

After the panel discussion concludes, the Executive Director of the Governing Board will provide a report to the Board, followed by updates from the Commissioner of the National Center for Education Statistics (NCES) and the Director of the Institute of Education Sciences (IES). Following these sessions, the Board will recess for Committee meetings from 10:15 a.m. to 12:30 p.m.

The Governing Board's standing committee, the Reporting and Dissemination Committee will meet on in open session on December 2 from 10:15 a.m. to 12:30 p.m.

The Committee on Standards, Design and Methodology will meet in open session from 10:15 a.m. to 12 p.m. and in closed session from 12 p.m. to 12:30 p.m. During the closed session, COSDAM members will receive a briefing on secure data collected from the NAEP writing achievement levels-setting field trial and pilot study. The Board will be provided with specific assessment data and achievement levels results that have not been approved for release by the NCES Commissioner and therefore cannot be disclosed to the public at this time. Premature disclosure of these secure test results would significantly impede implementation of the NAEP assessments and reporting, and is therefore protected by exemption 9(B) of section 552b(c) of Title 5 U.S.C.

The Assessment Development Committee (ADC) will meet in open session from 10:15 a.m. to 11:30 a.m. and thereafter in closed session from 11:30 a.m. to 12:30 p.m. During the closed session, the ADC will receive a briefing on embargoed data from cognitive lab studies of 4th grade students in preparation for the 2012 computer-based Writing Pilot assessment. The Board will be provided with specific test materials for review that cannot be discussed/disclosed in an open meeting. Premature disclosure of these secure test items and materials would significantly compromise the integrity and significantly impede implementation of the NAEP assessments, and is therefore protected by exemption 9(B) of section 552b(c) of Title 5 United States Code.

On December 2, 2011 from 12:30 p.m. to 2 p.m. the full Board will meet in closed session to receive a briefing from NCES on the 2011 Reading and Mathematics Report Cards for the Trial Urban District Assessment (TUDA). The Board will be provided with embargoed data and results that cannot be discussed in an open meeting prior to their official release by the National Center for Education Statistics on a date to be determined. Premature disclosure of these results would significantly impede implementation of the NAEP assessment program, and is therefore protected by exemption 9(B) of section 552b(c) of Title 5 United States Code.

From 2:15 p.m. to 3:15 p.m., the Board will receive a briefing on education policy perspectives from Senate and House staff from Capitol Hill. Following this session, from 3:15 p.m. to 4 p.m., the Board will receive an update from the Governing Board/Council of Chief State School Officers (CCSSO) Task Force. From 4:15 p.m. to 4:45 p.m. Board members will receive the annual ethics briefing from the U.S. Department of Education's Office of General Council staff. The December 2, 2011 session of the Board meeting is scheduled to conclude at 4:45 p.m.

On December 3, 2011, the Nominations Committee will meet in closed session from 7:15 a.m. to 8:15 a.m. to review nominations for Board terms beginning on October 1, 2012. These discussions pertain solely to internal personnel rules and practices of an agency and will disclose information of a personal nature where disclosure would constitute an unwarranted invasion of personal privacy. As such, the discussions are protected by exemptions 2 and 6 of section 552b(c) of Title 5 of the United States Code.

On December 3, the full Board will meet in open session from 8:30 a.m. to 12 p.m. From 8:30 a.m. to 10 a.m., the Board will receive a briefing on the Program for International Student Assessment (PISA) and at 10:15 a.m. the Board will receive a briefing from the standing committees' discussions on Making a Difference. The Board will receive Committee reports and take action on Committee recommendations from 11:15 a.m. to 12 p.m. upon which the December 3, 2011 meeting will conclude.

Detailed minutes of the meeting, including summaries of the activities of the closed sessions and related matters that are informative to the public and consistent with the policy of section 5 U.S.C. 552b(c) will be available to the public within 14 days of the meeting. Records are kept of all Board proceedings and are available for public inspection at the U.S. Department of Education, National Assessment Governing Board, Suite #825, 800 North Capitol Street NW., Washington, DC, from 9 a.m. to 5 p.m. Eastern Time, Monday through Friday.

Electronic Access to This Document: You may view this document, as well as all other documents of this Department published in the Federal Register, in text or Adobe Portable Document Format (PDF) on the Internet at the following site: http://www.ed.gov/news/fedregister/index.html. To use PDF you must have Adobe Acrobat Reader, which is available free at this site. If you have questions about using PDF, call the U.S. Government Printing Office (GPO), toll free at 1-(866) 512-1800; or in the Washington, DC, area at (202) 512-0000.

Note: The official version of this document is the document published in the Federal Register. Free Internet access to the official edition of the Federal Register and the Code of Federal Regulations is available on GPO Access at: www.gpoaccess.gov/nara/index.html.

Dated: November 10, 2011.
Cornelia S. Orr,
Executive Director, National Assessment Governing Board, U. S. Department of Education.

[FR Doc. 2011-29567 Filed 11-15-11; 8:45 am]

BILLING CODE 4000-01-P